SOCIAL SECURITY ADMINISTRATION

Notice of Changes in Magnetic Media Filing Requirements for Form W-2 Wage Reports

AGENCY: Social Security Administration.

ACTION: Notice.

SUMMARY: Notice is hereby given that the Social Security Administration will incorporate two changes into its Magnetic Media Reporting and Electronic Filing (MMREF) publication. The Social Security Administration will eliminate magnetic tapes and cartridges beginning with tax year (TY) 2005 W-2 reports (due to SSA in calendar year 2006). TY 2004 (calendar year 2005) is the last year SSA will accept tapes and cartridges. We will not accept tapes and cartridges starting with January 1, 2006. Diskettes will be eliminated beginning with TY 2006 W-2 reports (due to SSA in calendar year 2007). TY 2005 (calendar year 2006) is the last year SSA will accept diskettes. We will not accept diskettes starting with January 1, 2007. Instead, wage reports shall be filed electronically by employers or third-party preparers using the Social Security Administration's Business Services Online (BSO). BSO is a suite of Internet services for companies to conduct business with the Social Security Administration. The MMREF publication and additional information on wage report filing can be obtained by accessing the Social Security Administration's employer reporting Web site at http://www.socialsecurity.gov/employer or by calling 1-800-772-6270.

DATES: Comments must be received by July 16, 2004.

ADDRESSES: Comments on this change should be mailed or delivered to Chuck Liptz, Director, Office of Employer Wage Reporting and Relations Staff, Social Security Administration, Room 834, Altmeyer Building, Baltimore, MD 21235; or sent by telefax to (410) 966-8753.

FOR FURTHER INFORMATION CONTACT: Chuck Liptz, Director, Employer Wage Reporting and Relations Staff, Social Security Administration, Room 834, Altmeyer Building, Baltimore, MD 21235; telefax (410) 966-8753.

Dated: June 9, 2004.
Richard Harron,
Director, Office of Earnings and Information Exchange.

[FR Doc. 04-13543 Filed 6-15-04; 8:45 am]

BILLING CODE 4191-02-P